DEPARTMENT OF TRANSPORTATION

Federal Aviation Administration

14 CFR Part 39

[Docket No. FAA-2012-0270; Directorate Identifier 2011-NM-113-AD; Amendment 39-17570; AD 2013-17-06]

RIN 2120-AA64

Airworthiness Directives; Fokker Services B.V. Airplanes

AGENCY: Federal Aviation Administration (FAA), Department of Transportation (DOT).

ACTION: Final rule.

SUMMARY: We are adopting a new airworthiness directive (AD) for all Fokker Services B.V. Model F.27 Mark 050 airplanes, and Model F.28 Mark 0070 and 0100 airplanes. This AD was prompted by reports of loose nuts on contactors in the electrical power center (EPC), and in some cases, burned contactors. This AD requires inspecting and, if necessary, adjusting, the torque values of nuts on circuit breakers, contactors, and terminal blocks of the EPC and battery relay panel. This AD also requires inspecting to determine if certain parts are installed, and installing the parts if necessary. We are issuing this AD to detect and correct loose nuts, which could result in arcing and potentially an onboard fire, possibly resulting in damage to the airplane and injury to occupants or maintenance personnel.

DATES: This AD becomes effective October 18, 2013.

The Director of the Federal Register approved the incorporation by reference of certain publications listed in this AD as of October 18, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Discussion

We issued a supplemental notice of proposed rulemaking (SNPRM) to amend 14 CFR part 39 to include an AD that would apply to the specified products. The SNPRM published in the Federal Register on February 5, 2013 (78 FR 8058). We preceded the SNPRM with a notice of proposed rulemaking (NPRM), which published in the Federal Register on March 21, 2012 (77 FR 16486). The NPRM and the SNPRM both proposed to correct an unsafe condition for the specified products.

The European Aviation Safety Agency (EASA), which is the Technical Agent for the Member States of the European Community, issued EASA Airworthiness Directive 2012-0050, dated March 27, 2012 (referred to after this as the Mandatory Continuing Airworthiness Information, or “the MCAI”), to correct an unsafe condition for the specified products. The MCAI states:

In December 1989, Fokker issued Service Bulletin (SB) SBF50-24-A013 and SBF100-24-A011 (both Alert Bulletins) to instruct operators to inspect and adjust several torque values of bus bars and contactors in the EPC. The Civil Aviation Authority of The Netherlands (CAA-NL, formerly RLD) issued AD (BLA) 89-159 and BLA 89-157 respectively (both now at issue 2), to require operators of the affected aeroplanes to comply with the instructions of these SB's.

Since those [Dutch] ADs were issued, several operators reported finding loose nuts on contactors in the EPC of Fokker 50/60 aeroplanes in post-SBF50-24-A013 configuration and on Fokker 70/100 aeroplanes in post-SBF100-24-A011 configuration. In some cases, the findings included damaged (burned) contactors.

This condition, if not detected and corrected, could lead to arcing and, in combination with other factors, to an on-board fire, possibly resulting in damage to the aeroplane and injury to occupants or maintenance personnel. EASA issued AD 2011-0083 [referenced in the earlier FAA NPRM (77 FR 16486, March 21, 2012)] to address this unsafe condition.

After that [EASA] AD was issued, it was noticed that terminal block TB4906A, used in some Fokker 100 aeroplanes, was missing from the list of affected terminal blocks, as specified in Fokker SBF100-24-043. To correct this oversight, Fokker Services issued Revision 1 of SBF100-24-043, adding terminal block TB4906A.

For the reasons described above, this [EASA] AD retains the requirements of EASA AD 2011-0083, which is superseded, and for F28 Mark 0100 aeroplanes, adds required action for the missing terminal block TB4906A by making reference to SBF100-24-043 Revision 1.

The required actions include doing a general visual inspection to determine if either the lock washer, flat washer and nut, or locking nut and flat washer are installed; installing a new lock washer or self-locking nut, if necessary; and applying torque inspection lacquer. You may obtain further information by examining the MCAI in the AD docket.

Comments

We gave the public the opportunity to participate in developing this AD. We received no comments on the SNPRM (78 FR 8058, February 5, 2013) or on the determination of the cost to the public.

Conclusion

We reviewed the available data and determined that air safety and the public interest require adopting the AD as proposed—except for minor editorial changes. We have determined that these minor changes:

• Are consistent with the intent that was proposed in the SNPRM (78 FR 8058, February 5, 2013) for correcting the unsafe condition; and

• Do not add any additional burden upon the public than was already proposed in the SNPRM (78 FR 8058, February 5, 2013).

Costs of Compliance

We estimate that this AD will affect about 4 products of U.S. registry. We also estimate that it will take about 5 work-hours per product to comply with the basic requirements of this AD. The average labor rate is $85 per work-hour. Based on these figures, we estimate the cost of this AD to the U.S. operators to be $1,700, or $425 per product.

In addition, we estimate that any necessary follow-on actions would take about 4 work-hours and require parts costing $25, for a cost of $365 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-17-06 Fokker Services B.V.: Amendment 39-17570. Docket No. FAA-2012-0270; Directorate Identifier 2011-NM-113-AD.

(a) Effective Date

This airworthiness directive (AD) becomes effective October 18, 2013.

(b) Affected ADs

None.

(c) Applicability

This AD applies to all Fokker Services B.V. Model F.27 Mark 050 airplanes, and Model F.28 Mark 0070 and 0100 airplanes, certificated in any category.

(d) Subject

Air Transport Association (ATA) of America Code 24, Electric power.

(e) Reason

This AD was prompted by reports of loose nuts on contactors in the electrical power center (EPC), and in some cases, burned contactors. We are issuing this AD to detect and correct loose nuts, which could result in arcing and potentially an onboard fire, possibly resulting in damage to the airplane and injury to occupants or maintenance personnel.

(f) Compliance

You are responsible for having the actions required by this AD performed within the compliance times specified, unless the actions have already been done.

(g) Actions

Within 24 months after the effective date of this AD, do the actions specified in paragraphs (g)(1), (g)(2), and (g)(3) of this AD.

(1) Do a torque check of the nuts and circuit breakers, contactors, and terminal blocks of the EPC and battery relay panel, as applicable; and do all applicable adjustments of the torque values; in accordance with the Accomplishment Instructions of Fokker Service Bulletin SBF50-24-032, dated February 10, 2011 (for Model F.27 Mark 050 airplanes); or the Accomplishment Instructions of Fokker Service Bulletin SBF100-24-043, Revision 1, dated December 15, 2011 (for Model F.28 Mark 0070 and 0100 airplanes). Do all applicable adjustments before further flight.

(2) Do a general visual inspection of the contacts and nuts on circuit breakers, contactors, and terminal blocks of the EPC and battery relay panel to determine if either the lock washer, flat washer and nut, or locking nut and flat washer are installed; and do all applicable installations; in accordance with the Accomplishment Instructions of Fokker Service Bulletin SBF50-24-032, dated February 10, 2011 (for Model F.27 Mark 050 airplanes); or the Accomplishment Instructions of Fokker Service Bulletin SBF100-24-043, Revision 1, dated December 15, 2011 (for Model F.28 Mark 0070 and 0100 airplanes). Do all applicable installations before further flight.

(3) Before further flight, after accomplishing any check required by paragraph (g)(1) of this AD or any inspection required by paragraph (g)(2) of this AD: Apply torque inspection lacquer, in accordance with the Accomplishment Instructions of Fokker Service Bulletin SBF50-24-032, dated February 10, 2011 (for Model F.27 Mark 050 airplanes); or the Accomplishment Instructions of Fokker Service Bulletin SBF100-24-043, Revision 1, dated December 15, 2011 (for Model F.28 Mark 0070 and 0100 airplanes).

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to:

9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to Mandatory Continuing Airworthiness Information (MCAI) European Aviation Safety Agency Airworthiness Directive 2012-0050, dated March 27, 2012, for related information, which can be found in the AD docket on the Internet at http://www.regulations.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Fokker Service Bulletin SBF50-24-032, dated February 10, 2011.

(ii) Fokker Service Bulletin SBF100-24-043, Revision 1, dated December 15, 2011.

(3) For service information identified in this AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 16, 2013.
Jeffrey E. Duven,
Acting Manager, Transport Airplane Directorate, Aircraft Certification Service.

[FR Doc. 2013-21672 Filed 9-12-13; 8:45 am]

BILLING CODE 4910-13-P